CONSUMER PRODUCT SAFETY COMMISSION

[Docket No. CPSC-2009-0064]

Submission for OMB Review; Comment Request: Infant Bath Seats

AGENCY: Consumer Product Safety Commission.

ACTION: Notice.

SUMMARY: Pursuant to the Paperwork Reduction Act of 1995 (44 U.S.C. Chapter 35), the Consumer Product Safety Commission (Commission or CPSC) announces that the CPSC has submitted to the Office of Management and Budget (OMB) a request for extension of approval of a collection of information for the safety standard for infant bath seats.

DATES: Written comments on this request for extension of approval of information collection requirements should be submitted by January 6, 2014.

ADDRESSES: OMB recommends that written comments be faxed to the Office of Information and Regulatory Affairs, OMB, Attn: CPSC Desk Officer, FAX: 202-395-6974, or emailed to oira_submission@omb.eop.gov. All comments should be identified by Docket No. CPSC-2009-0064. In addition, written comments also should be submitted at: http://www.regulations.gov, under Docket No. CPSC-2009-0064, or by mail/hand delivery/courier (for paper, disk, or CD-ROM submissions), preferably in five copies, to: Office of the Secretary, U.S. Consumer Product Safety Commission, Room 820, 4330 East West Highway, Bethesda, MD 20814; telephone (301) 504-7923. For access to the docket to read background documents or comments received, go to: http://www.regulations.gov.

FOR FURTHER INFORMATION CONTACT: Robert H. Squibb, U.S. Consumer Product Safety Commission,4330 East West Highway, Bethesda, MD 20814; telephone: 301-504-7923 or by email to: rsquibb@cpsc.gov.

SUPPLEMENTARY INFORMATION: In the Federal Register of August 30, 2013 (78 FR 53734), the Commission published a notice in accordance with provisions of the Paperwork Reduction Act of 1995 (44 U.S.C. Chapter 35) to announce the CPSC's intention to seek extension of approval of a collection of information for the safety standard for infant bath seats. CPSC received no comments. By publication of this notice, the Commission announces that the CPSC has submitted to the Office of Management and Budget (OMB), a request for extension of approval of that collection of information without change.

A. Background

Section 104(b) of the Consumer Product Safety Improvement Act of 2008 (CPSIA), Public Law 110-314, 122 Stat. 3016 (August 14, 2008), requires the CPSC to promulgate consumer product safety standards for durable infant or toddler products. These standards are to be “substantially the same as” applicable voluntary standards or more stringent than the voluntary standard if the Commission concludes that more stringent requirements would further reduce the risk of injury associated with the product. On June 4, 2010, the Commission issued a safety standard for infant bath seats that incorporated by reference the voluntary standard for infant bath seats issued by ASTM International, ASTM F1967-08a, with some modifications to reduce further the risk of injury associated with infant bath seats. 75 FR 31691. On July 31, 2012, the Commission adopted the revised ASTM standard for infant bath seats, ASTM F1967-11a. 77 FR 45242. The requirements for infant bath seats are set forth under 16 CFR part 1215.

Sections 8.6 and 9 of ASTM F1967-11a contain requirements for marking, labeling, and instructional literature, which may be considered to be collections of information. Section 8.6 of ASTM F1967-11a requires:

• The name of the manufacturer, distributor, or seller and either the place of business (city, state, and mailing address, including zip code), or telephone number, or both; and

• A code mark or other means that identifies the date (month and year, as a minimum) of manufacture.

Section 9 of ASTM F1967-11a requires infant bath seats to be provided with instructions regarding assembly, maintenance, cleaning, storage, and use, as well as warnings.

B. Burden Hours

There are seven known firms supplying infant bath seats to the U.S. market. All seven firms are assumed to use labels on both their products and their packaging; however, modifications to existing labels may be required to comply with the ASTM standard. The estimated time required to make these modifications is about one hour per model. On the average, each of the seven firms supplies approximately two different models of infant bath seats; therefore, the estimated burden hours associated with modified labels is 1 hour x 7 firms x 2 models per firm = 14 annual hours.

Section 9 of ASTM F1967-11a requires instructions to be supplied with the product. This practice is usual and customary with infant bath seats. These are products that generally require some installation and maintenance instructions. Any burden associated with supplying instructions with infant bath seats thus would be “usual and customary” and not within the definition of “burden” under OMB's regulations. 5 CFR 1320.3(b)(2).

We estimate that hourly compensation for the time required to create and update labels is $27.44, based on the assumption that sales or office employees will be modifying the labels as required (U.S. Bureau of Labor Statistics, “Employer Costs for Employee Compensation,” March 2013, Table 9, total compensation for all sales and office workers in goods-producing private industries: http://www.bls.gov/ncs/). Therefore, the estimated annual cost associated with the requirements is $384 ($27.44 per hour x 14 hours = $384).

The estimated annual cost of the information collection requirements to the federal government is approximately $3,527, which includes 60 CPSC staff hours to examine and evaluate the information, as needed, for monitoring and enforcement. This is based on a GS-12 level, salaried employee. The average hourly wage rate for a mid-level salaried GS-12 employee in the Washington, DC, metropolitan area (effective January 2011) is $40.80 (GS-12, step 5). This represents 69.5 percent of total compensation (U.S. Bureau of Labor Statistics, “Employer Costs for Employee Compensation,” March 2013, Table 1, percentage of wages and salaries for all civilian management, professional, and related employees, http://www.bls.gov/ncs/). Adding an additional 30.5 percent for benefits brings average hourly compensation for a mid-range salaried GS-12 employee to $58.78. Assuming that approximately 60 hours of staff time will be required annually, the total annual cost of CPSC staff time to examine and evaluate the information is estimated at $3,527.

Dated: December 3, 2013.
Todd A. Stevenson,
Secretary, Consumer Product Safety Commission.

[FR Doc. 2013-29147 Filed 12-5-13; 8:45 am]

BILLING CODE 6355-01-P